SECURITIES AND EXCHANGE COMMISSION

[File No. 500-1]

In the Matter of Luxeyard, Inc., and SuperDirectories, Inc.; Order of Suspension of Trading

August 31, 2016.

It appears to the Securities and Exchange Commission that there is a lack of current and accurate information concerning the securities of Luxeyard, Inc. (CIK No. 1493587), a Delaware corporation with its principal place of business listed as Los Angeles, California, with stock quoted on OTC Link (previously, “Pink Sheets”) operated by OTC Markets Group, Inc. (“OTC Link”) under the ticker symbol LUXR, because it has not filed any periodic reports since April 9, 2013. On August 19, 2015, Luxeyard, Inc. was sent a delinquency letter by the Division of Corporation Finance requesting compliance with its periodic filing obligations, but did not receive the delinquency letter due to its failure to maintain a valid address on file with the Commission as required by Commission rules (Rule 301 of Regulation S-T, 17 CFR 232.301 and Section 5.4 of EDGAR Filer Manual).

It appears to the Securities and Exchange Commission that there is a lack of current and accurate information concerning the securities of SuperDirectories, Inc. (CIK No. 1338624), a delinquent Wyoming corporation with its principal place of business listed as Merrill, New York, with stock quoted on OTC Link under the ticker symbol SDIR, because it has not filed any periodic reports since the period ended June 30, 2014. On September 25, 2015, SuperDirectories, Inc. was sent a delinquency letter by the Division of Corporation Finance requesting compliance with its periodic filing obligations, but did not receive the delinquency letter due to its failure to maintain a valid address on file with the Commission as required by Commission rules (Rule 301 of Regulation S-T, 17 CFR 232.301 and Section 5.4 of EDGAR Filer Manual).

The Commission is of the opinion that the public interest and the protection of investors require a suspension of trading in the securities of the above-listed company.

Therefore, it is ordered, pursuant to Section 12(k) of the Securities Exchange Act of 1934, that trading in the securities of the above-listed company is suspended for the period from 9:30 a.m. EDT on August 31, 2016, through 11:59 p.m. EDT on September 14, 2016.

By the Commission.
Jill M. Peterson,
Assistant Secretary.

[FR Doc. 2016-21301 Filed 8-31-16; 4:15 pm]

BILLING CODE 8011-01-P